SMALL BUSINESS ADMINISTRATION

[Disaster Declaration # 11677 and # 11678]

Oregon Disaster Number OR-00029

AGENCY: U.S. Small Business Administration.

ACTION: Amendment 2.

SUMMARY: This is an amendment of the Presidential declaration of a major disaster for Public Assistance Only for the State of Oregon (FEMA-1824-DR), dated 03/02/2009.

Incident: Severe Winter Storm, Record and Near Record Snow, Landslides, and Mudslides.

Incident Period: 12/20/2008 through 12/26/2008.

Effective Date: 03/18/2009.

Physical Loan Application Deadline Date: 05/01/2009.

Economic Injury (EIDL) Loan Application Deadline Date: 12/02/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of OREGON, dated 03/02/2009, is hereby amended to include the following areas as adversely affected by the disaster.

Primary Counties: Tillamook.

All other information in the original declaration remains unchanged.

(Catalog of Federal Domestic Assistance Numbers 59002 and 59008)

Roger B. Garland,
Acting Associate Administrator for Disaster Assistance.

[FR Doc. E9-6849 Filed 3-26-09; 8:45 am]

BILLING CODE 8025-01-P